FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 000100F.

Name: Alfred H. Marzolf, Inc.

Address: 810 3rd Ave., Ste. 236, Seattle, WA 98104.

Date Revoked: October 3, 2009.

Reason: Failed to maintain a valid bond.

License Number: 019535F.

Name: Early Bird Pick Up And Delivery LLC.

Address: 128 Magnolia Ave., Bridgeport, CT 06610.

Date Revoked: October 3, 2009.

Reason: Failed to maintain a valid bond.

License Number: 018787NF.

Name: Express Solutions International, Inc. dba, ESI Global Logistics.

Address: 3916 Vero Rd., Ste. M, Baltimore, MD 21227.

Date Revoked: October 8, 2009.

Reason: Failed to maintain valid bonds.

License Number: 021735N.

Name: Global Transportation, Inc.

Address: 31-B Postal Parkway, Newnan, GA 30263.

Date Revoked: October 1, 2009.

Reason: Failed to maintain a valid bond.

License Number: 015471NF.

Name: Navicargo, Inc.

Address: 10933 NW 122nd Street, Medley, FL 33178.

Date Revoked: October 14, 2009.

Reason: Failed to maintain valid bonds.

License Number: 013253N.

Name: Total Service Line Corporation dba Total Shipping Line Corp.

Address: 12140 E. Artesia Blvd., Ste. 205, Artesia, CA 90701.

Date Revoked: October 14, 2009.

Reason: Failed to maintain a valid bond.

License Number: 021284N.

Name: USTC America, Inc.

Address: 1250 E. 23rd Street, #107, Carson, CA 90745.

Date Revoked: October 9, 2009.

Reason: Failed to maintain a valid bond.

License Number: 020668N.

Name: Valcad Construction, LLC.

Address: 321 W. Northwest Highway, Ferris, TX 75220.

Date Revoked: October 1, 2009.

Reason: Failed to maintain a valid bond.

Sandra L. Kusumoto,
Director, Bureau of Certification and Licensing.

[FR Doc. E9-26551 Filed 11-3-09; 8:45 am]

BILLING CODE P